DEPARTMENT OF DEFENSE

GENERAL SERVICES ADMINISTRATION

NATIONAL AERONAUTICS AND SPACE ADMINISTRATION

[OMB Control No. 9000-0153; Docket 2017-0053; Sequence 17]

Submission for OMB Review; OMB Circular A-119

AGENCY: Department of Defense (DOD), General Services Administration (GSA), and National Aeronautics and Space Administration (NASA).

ACTION: Notice.

SUMMARY: Under the provisions of the Paperwork Reduction Act, the Regulatory Secretariat Division (MVCB) will be submitting to the Office of Management and Budget (OMB) a request to review and approve an extension of a previously approved information collection requirement concerning OMB Circular A-119.

DATES: Submit comments on or before February 20, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov.

Submit comments via the Federal eRulemaking portal by searching the OMB control number 9000-0153. Select the link “Comment Now” that corresponds with “Information Collection 9000-0153, OMB Circular A-119”. Follow the instructions provided on the screen. Please include your name, company name (if any), and “Information Collection 9000-0153, OMB Circular A-119” on your attached document.

• Mail: General Services Administration, Regulatory Secretariat Division (MVCB), 1800 F Street NW, Washington, DC 20405. ATTN: Ms. Mandell/IC 9000-0153, OMB Circular A-119.

Instructions: Please submit comments only and cite Information Collection 9000-0153, OMB Circular A-119, in all correspondence related to this collection. All comments received will be posted without change to http://www.regulations.gov, including any personal and/or business confidential information provided.

FOR FURTHER INFORMATION CONTACT: Mr. Michael O. Jackson, Procurement Analyst, Acquisition Policy Division, GSA 202-208-4949 or email michaelo.jackson@gsa.gov.

SUPPLEMENTARY INFORMATION:

A. Purpose

A revised OMB Circular A-119, “Federal Participation in the Development and Use of Voluntary Consensus Standards and in Conformity Assessment Activities,” was published at https://www.nist.gov/sites/default/files/revised_circular_a-119_as_of_01-22-2016.pdf, on January 22, 2016. FAR Subparts 11.1 and 11.2 were revised and a solicitation provision was added at 52.211-7, Alternatives to Government-Unique Standards, to implement the requirements of the revised OMB circular. If an alternative standard is proposed, the offeror must furnish data and/or information regarding the alternative in sufficient detail for the Government to determine if it meets the Government's requirements.

We believe the burden for FAR 52.211-7 to be negative, as it is purely a permissive means for offerors to propose reducing regulatory burden on a given solicitation. There are other places A-119 has an effect, though we believe these to be positive. One is by enabling the single process initiative. Another is the general replacement of Mil standards with commercial standards, e.g., ISO 9000. Also, A-119 is the basis for the language in FAR 53.105, which reduces the chaos in data standards development. The whole purpose of A-119 was to reduce regulatory burden by promoting the use of industry standards in lieu of federal ones.

To the extent that the data on the annual frequency of the use of voluntary consensus standards under FAR 52.211-7 is not available, we believe 100 is reasonable. As an aside, FAR part 45 recognizes the use of voluntary consensus standards in the management of Government property. However, in these cases, there is no Government standard per se, with the voluntary consensus standard serving as the Government standard. Consequently, when under part 45 voluntary consensus standards are used, they are not an alternative to a Government standard under FAR 52.211-7.

This collection implements OMB Circular A-119, Federal Participation in the Development and Use of Voluntary Consensus Standards. FAR solicitation provision 52.211-7, Alternatives to Government-Unique Standards, is the collection instrument. We have previously indicated that “to the extent that the data on the annual frequency of the use of voluntary consensus standards under FAR 52.211-7 is not available, we believe that 100 is reasonable.” This is the number that has been reported since the inception of this PRA collection, which indicates that revised data has been consistently unavailable since responses are provided to contracting personnel at the local level in response to a local solicitation. We checked the FPDS data dictionary and there are no codes to flag data fields or provide a count of when Mil standards are used in solicitations/contracts. Considering the lack of FPDS or other data, we recommend continuing the PRA coverage at the current level.

B. Public Comment

A 60 day notice was published in the Federal Register at 82 FR 51256, on November 3, 2017. One comment was received; however, it was not substantive, and did not change the estimate of the burden.

C. Annual Reporting Burden

Respondents: 100.

Responses per Respondent: 1.

Total Responses: 100.

Hours per Response: 1.

Total Burden Hours: 100.

Affected Public: Businesses or other for-profit and not-for-profit.

Respondent's Obligation: Required to obtain or retain benefits.

Reporting Frequency: On occasion.

Obtaining Copies of Proposals: Requesters may obtain a copy of the information collection documents from the General Services Administration, Regulatory Secretariat Division (MVCB), 1800 F Street NW, Washington, DC 20405, telephone 202-501-4755. Please cite OMB Control No. 9000-0153, OMB Circular A-119, in all correspondence.

Dated: January 12, 2018.
Lorin S. Curit,
Director, Federal Acquisition Policy Division, Office of Government-wide Acquisition Policy, Office of Acquisition Policy, Office of Government-wide Policy.

[FR Doc. 2018-00779 Filed 1-17-18; 8:45 am]

BILLING CODE 6820-EP-P